DEPARTMENT OF ENERGY

Federal Energy Regulatory Commission

[Docket No. QF07-198-000]

Warm Springs Biomass Project, LLC; Notice of Filing of Notice of Self-Certification of Qualifying Status of a Small Power Production Facility and Cogeneration Facility

July 5, 2007.

Take notice that on July 2, 2007, Warm Springs Biomass Project, LLC (Warm Springs Biomass) filed with the Commission a notice of self-certification of a facility as a qualifying small power production facility and cogeneration facility pursuant to 18 CFR 292.207(a) of the Commission's regulations.

Warm Springs Biomass will construct, own, and operate an approximately 20 MW cogeneration facility using biomass as fuel. The two biomass-fueled steam boilers will produce steam that will be directed to the steam turbine generator. Up to 60,000 pounds per hour of steam will be extracted at 75 psi to operate lumber dry kilns. The remaining portion of the steam will run through the entire steam turbine and condensed to produce power. The facility will be located on reservation of the Confederated tribes of Warm Springs Indian Reservation of Oregon in Jefferson County, Oregon.

The facility will interconnect with the transmission system of Warm Springs Power and Water Enterprises and sell electric energy to Portland General Electric Company. The facility will purchase supplementary, standby, back-up and maintenance power from PacificCorp.

A notice of self-certification does not institute a proceeding regarding qualifying facility status; a notice of self-certification [or self-recertification] provides notice that the entity making filing has determined the facility meets the applicable criteria to be a qualifying facility. Any person seeking to challenge such qualifying facility status may do so by filing a motion pursuant to 18 CFR 292.207(d)(iii).

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Kimberly D. Bose,
Secretary.

[FR Doc. E7-13512 Filed 7-11-07; 8:45 am]

BILLING CODE 6717-01-P